ENVIRONMENTAL PROTECTION AGENCY

[EPA-HQ-OW-2015-0641; FRL-9984-01-OW]

Proposed Information Collection Request; Comment Request; BEACH Act Grant Program (Renewal)

AGENCY: Environmental Protection Agency (EPA).

ACTION: Notice.

SUMMARY: The Environmental Protection Agency (EPA) is planning to submit an information collection request (ICR), “Beaches Environmental Assessment and Coastal Health (BEACH) Act Grant Program” (EPA ICR No. 2048.07, OMB Control No. 2040-0244) to the Office of Management and Budget (OMB) for review and approval in accordance with the Paperwork Reduction Act (PRA). Before doing so, EPA is soliciting public comments on specific aspects of the proposed information collection as described below. This is a proposed extension of the ICR, which is currently approved through April 30, 2023. An Agency may not conduct or sponsor and a person is not required to respond to a collection of information unless it displays a currently valid OMB control number.

DATES: Comments must be submitted on or before September 9, 2022.

ADDRESSES: Submit your comments, referencing Docket ID No. EPA-HQ-OW-2015-0641 online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Lisa Larimer, Office of Water, Office of Science and Technology, Standards and Health Protection Division (4305T), Environmental Protection Agency, 1200 Pennsylvania Ave. NW, Washington, DC 20460; telephone number: (202) 566-1017; fax number: (202) 566-0409; email address: larimer.lisa@epa.gov.

SUPPLEMENTARY INFORMATION: Supporting documents which explain in detail the information that EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 United States Code (U.S.C.) 3501 et seq), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Beaches Environmental Assessment and Coastal Health (BEACH) Act amends the Clean Water Act (CWA) in part and authorizes the U.S. Environmental Protection Agency (EPA) to award BEACH Act grants to coastal and Great Lakes states, tribes, and territories (collectively referred to as jurisdictions) to develop and implement beach monitoring and notification programs. The grants assist those jurisdictions to develop and implement a consistent approach to monitor recreational water quality; assess, manage, and communicate health risks from waterborne microbial contamination; notify the public of pollution occurrences; and post beach advisories and closures to prevent public exposure to microbial pathogens.

Per CWA section 406, 33 U.S.C. 1346, to qualify for a BEACH Act grant, a jurisdiction must submit information to EPA documenting that its beach monitoring and notification program is consistent with performance criteria outlined in the National Beach Guidance and Required Performance Criteria for Grants, 2014 Edition. In addition, recipients of BEACH Act grants must submit water quality monitoring data and information on public notification actions to EPA. All beach program information will be collected by the EPA's Office of Science and Technology, stored in the Beach Advisory and Closing On-line Notification (BEACON) system, and accessible via EPA's Beaches website for use by the public; state, tribal, territorial, and local environmental and public health agencies; and EPA.

This ICR renews the BEACH Act Grant Program ICR, OMB Control Number 2040-0244, which is approved through April 30, 2023. This ICR renewal describes the estimated burden associated with the information collection of water quality monitoring data and public notification actions from recipients of BEACH Act grants.

Form Numbers: None.

Respondents/affected entities: Potential respondents to this ICR are recipients of BEACH Act grants, including 29 coastal and Great Lakes states, 4 tribes, 5 U.S. territories, and Erie County, Pennsylvania.

Respondent's obligation to respond: Required to obtain or retain a benefit (Section 406 of the Clean Water Act, 33 U.S.C. 1346).

Estimated number of respondents: 40 (total).

Frequency of response: Annual; however, the Agency encourages more frequent reporting to provide more up-to-date information to the public.

Total estimated burden: 254,634 hours (per year). Burden is defined at 5 CFR 1320.03(b).

Total estimated cost: $17,663,581 (per year), includes $7,222,280 annualized capital or operation & maintenance (O&M) costs.

Changes in Estimates: There is an increase of 162,750 hours in the total estimated respondent burden compared with the ICR currently approved by OMB. This increase is in response to feedback to better account for labor costs and to structure the ICR to better align with the burden associated with the present program. Specifically, the increase is due to three main reasons: (1) the existing ICR did not fully capture the respondent labor associated with collecting water quality samples, (2) the restructuring of actions into developmental and annual grant activities and subsequent recalculation of the associated burden, and (3) the anticipated addition of one tribal respondent. The total respondent cost increased by $2.1M, due to the changes described, an increase in the cost to analyze water samples, and slight increases in the salary rates. However, this increase is offset by a $4.3M decrease in respondent O&M cost resulting from using actual respondent sampling frequency data rather than previous estimates that overcounted sampling. Agency burden and cost increased by 117 hours because the existing ICR did not capture some of the labor associated with the administration of beach grants or the Agency O&M cost for contractor assistance to jurisdictions with data submission and maintaining the statutorily required database.

Deborah Nagle,
Director, Office of Science and Technology, Office of Water.

[FR Doc. 2022-14678 Filed 7-8-22; 8:45 am]

BILLING CODE 6560-50-P